DEPARTMENT OF ENERGY

Federal Energy Regulatory Commission

[Docket Nos. EC03-41-000, et al.]

Canadian Niagara Power Company, Limited, et al.; Electric Rate and Corporate Filings

January 3, 2003.

The following filings have been made with the Commission. The filings are listed in ascending order within each docket classification.

1. Canadian Niagara Power Company, Limited

[Docket No. EC03-41-000]

Take notice that on January 2, 2003, Canadian Niagara Power Company Limited tendered for filing with the Federal Energy Regulatory Commission (Commission), pursuant to Section 203 of the Federal Power Act, 16 U.S.C. Section 824b (1994), and part 33 of the Commission's regulations, 18 CFR part 33, an application for authorization to dispose of jurisdictional facilities pursuant to an intra-corporate reorganization of Canadian Niagara Power Company Limited and Fortis Inc.

Comment Date: January 23, 2003.

2. GenWest, LLC

[Docket No. EG03-34-000]

Take notice that on December 30, 2002, GenWest, LLC (GenWest) tendered for filing with the Federal Energy Regulatory Commission (Commission), an application for determination of exempt wholesale generator status pursuant to part 365 of the Commission's regulations.

GenWest states that it will develop, own and operate a 590 MW electric generating facility located at Apex, Nevada, and sell electric energy exclusively at wholesale. GenWest's principal business offices are located at 400 North 5th Street, Phoenix, Arizona.

Comment Date: January 24, 2003.

3. Entergy Services, Inc.

[Docket No. ER03-171-001]

Take notice that on December 13, 2002, Entergy Services, Inc., on behalf of Entergy Mississippi, Inc. (Entergy Mississippi), tendered for filing for informational purposes the Agreement for the Lease of Silver Creek Substation between Entergy Mississippi and South Mississippi Electric Association (SMEPA), dated July 1, 2002, as additional information in support of the Interconnection and Operating Agreement between Entergy Mississippi and SMEPA filed in this docket on November 7, 2002.

Comment Date: January 17, 2003.

4. GenWest, LLC

[Docket No. ER03-352-000]

Take notice that on December 30, 2002, GenWest, LLC (GenWest) filed an initial rate schedule to sell power at market-based rates.

Comment Date: January 21, 2003.

5. San Diego Gas & Electric Company

[Docket No. ER03-353-000]

Take notice that on December 30, 2002, San Diego Gas & Electric (SDG&E) tendered for filing a change in rate for the Transmission Revenue Balancing Account Adjustment and its Transmission Access Charge Balancing Account Adjustment set forth in its Transmission Owner Tariff. The effect of this rate change is to reduce rates for jurisdictional transmission service utilizing that portion of the California Independent System Operator-controlled grid owned by SDG&E. SDG&E requests that this rate change be made effective January 1, 2003.

SDG&E states that copies of this filing were served upon the Public Utilities Commission of the State of California and all interested parties.

Comment Date: January 21, 2003.

6. Ormet Primary Aluminum Corporation

[Docket No. ER03-354-000]

Take notice that on December 30, 2002, Ormet Power Marketing, LLC (Ormet Power Marketing) petitioned the Federal Energy Regulatory Commission (Commission) for acceptance of Ormet Power Marketing Rate Schedule FERC No. 1; the granting of certain blanket approvals, including the authority to sell electricity at market-based rates; and the waiver of certain Commission regulations.

Ormet Power Marketing states that it intends to engage in wholesale electric power and energy purchases and sales as a marketer. Ormet Power Marketing is not in the business of generating or transmitting electric power. Ormet Corporation, parent of Ormet Power Marketing, and its subsidiaries produce a wide range of aluminum products for the fabrication, extrusion and conversion markets.

Comment Date: January 21, 2003.

7. Southern Company Services, Inc.

[Docket No. ER03-355-000]

Take notice that on December 30, 2002, Southern Company Services, Inc. (SCS), acting on behalf of Alabama Power Company, Georgia Power Company, Gulf Power Company, Mississippi Power Company, and Savannah Electric and Power Company (collectively Southern Companies), filed one rollover transmission service agreement under the Open Access Transmission Tariff of Southern Companies (FERC Electric Tariff, Fourth Revised Volume No. 5). Specifically, this agreement is a firm point-to-point transmission service agreement for rollover service with Oglethorpe Power Corporation (First Revised Service Agreement No. 431).

Comment Date: January 21, 2003.

8. San Diego Gas & Electric Company

[Docket No. ER03-356-000]

Take notice that on December 30, 2002, San Diego Gas & Electric Company (SDG&E) tendered for filing its forecast of the charges it will pay for Reliability Must Run (RMR) services under contracts administered by the California Independent System Operator (CAISO) for the year 2003 along with its proposed rates for recovery of the RMR charges. Under Section 5.2.8 of the CAISO Tariff, SDG&E is the Responsible Utility (RU) for payments to owners of RMR generation units within its service territory. SDG&E recovers its costs for those payments through a dedicated rate component. SDG&E requests an effective date of January 1, 2003 for the proposed rate.

SDG&E states that copies of the filing have been served on the CAISO and on the California Public Utilities Commission.

Comment Date: January 21, 2003.

9. Soyland Power Cooperative, Inc.

[Docket No. ER03-357-000]

Take notice that on December 30, 2002, Soyland Power Cooperative, Inc. (Soyland) tendered for filing with the Federal Energy Regulatory Commission (Commission) a notice of cancellation of its all-requirements service contract with M.J.M. Electric Cooperative, Inc. (MJM). Soyland states that MJM has withdrawn from membership in Soyland, and Soyland will no longer provide all-requirements electric service to MJM.

Soyland requests an effective date of December 31, 2002 for the notice of cancellation. Soyland states that a copy of the filing has been served on MJM.

Comment Date: January 21, 2003.

10. Pacific Gas and Electric Company

[Docket No. ER03-358-000]

Take notice that on December 31, 2002, Pacific Gas and Electric Company (PG&E) tendered for filing Generator Special Facilities Agreements (GSFAs), Generator Interconnection Agreements (GIAs) and Letter Agreements Supplementing, Clarifying, and Modifying the Generator Special Facilities Agreement (Supplemental Letter Agreements) between PG&E and the following Calpine-owned parties: Gilroy Energy Center, LLC (Gilroy); Los Esteros Critical Energy Facility, LLC (Los Esteros); Yuba City Energy Center, LLC (Yuba City); Metcalf Energy Center, LLC (Metcalf); Lambie Energy Center, LLC (Lambie); Goose Haven Energy Center, LLC (Goose Haven); and Creed Energy Center, LLC (Creed); King City Energy Center, LLC (King City); Feather River Energy Center, LLC (Feather River); Riverview Energy Center, LLC (Riverview); Wolfskill Energy Center, LLC (Wolfskill); and Delta Energy Center, LLC (DEC).

PG&E states that copies of this filing have been served upon Calpine, Gilroy, Los Esteros, Yuba City, Metcalf, Lambie, Goose Haven, Creed, King City, Feather River, Riverview, Wolfskill, DEC, the California Independent System Operator Corporation and the CPUC.

Comment Date: January 21, 2003.

11. Midwest Energy, Inc.

[Docket No. ES03-15-001]

Take notice that on December 23, 2002, Midwest Energy, Inc. submitted an amendment to its original application in this proceeding, pursuant to section 204 of the Federal Power Act. The amendment seeks to reduce the amount of long-term debt that Midwest Energy, Inc. proposes to issue from $37,714,286 to $34,204,626.

Comment Date: January 17, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-471 Filed 1-9-03; 8:45 am]

BILLING CODE 6717-01-P